NATIONAL SCIENCE FOUNDATION

National Science Board; Commission on 21st Century Education in Science, Technology, Engineering and Mathematics; Amended Notice of Meeting

Pursuant to section 10(a)(2) of the Federal Advisory Committee Act (Pub. L. 92-463), as amended, notice is hereby given of a change in the location of a meeting of the National Science Board Commission on 21st Century Education in Science, Technology, Engineering, and Mathematics. The meeting, originally set for January 18, 2007, from 8 a.m.-5 p.m. to be held at the Arizona State Capitol, 1700 W. Washington Street, Phoenix, AZ 85007 (published in Vol. 71 FR 78227, December 28, 2006) will be held at the same time at the Hyatt Regency Phoenix, 122 North Second Street, Phoenix, Arizona, USA 85004. Telephone: 602-252-1234

Type of Meeting: Open.

Purpose of Meeting: The purpose of this meeting is for the Commission to discuss its draft recommendations relating to K-12 STEM education. A provisional agenda for the meeting will be available at http://www.nsf.gov/nsb/edu-com/.

Contact Person: Dr. Elizabeth Strickland, Commission Executive Secretary, National Science Board Office, 4201 Wilson Boulevard, Arlington, VA 22230; Phone: 703-292-4527, E-mail estrickl@nsf.gov.

Russell Moy,
Attorney-Advisor.

[FR Doc. E7-558 Filed 1-12-07; 8:45 am]

BILLING CODE 7555-01-P